DEPARTMENT OF TRANSPORTATION

Federal Aviation Administration

14 CFR Part 39

[Docket No. FAA-2010-0821; Directorate Identifier 2010-NE-30-AD; Amendment 39-16657; AD 2011-08-07]

RIN 2120-AA64

Airworthiness Directives; Rolls-Royce plc (RR) RB211-Trent 800 Series Turbofan Engines

AGENCY: Federal Aviation Administration (FAA), DOT.

ACTION: Final rule; correction.

SUMMARY: The FAA is correcting an airworthiness directive (AD) that published in the Federal Register. That AD applies to RR RB211-Trent 875-17, RB211-Trent 877-17, RB211-Trent 884-17, RB211-Trent 884B-17, RB211-Trent 892-17, RB211-Trent 892B-17, and RB211-Trent 895-17 turbofan engines. The compliance instructions in the regulatory section paragraphs (e)(3) and (e)(5) are partially correct and do not fully meet our original intent. This document corrects those errors. In all other respects, the original document remains the same.

DATES: The effective date for AD 2011-08-07 remains June 7, 2011.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Alan Strom, Aerospace Engineer, Engine Certification Office, FAA, Engine & Propeller Directorate, 12 New England Executive Park, Burlington, MA 01803; phone: 781-238-7143; fax: 781-238-7199; e-mail: alan.strom@faa.gov.

SUPPLEMENTARY INFORMATION: Airworthiness Directive 2011-08-07, Amendment 39-16657 (76 FR 24798, May 3, 2011), currently requires initial and repetitive ultrasonic inspections of the affected low-pressure compressor blades, identified by serial number.

As published, paragraph (e)(3) in the regulatory section inadvertently referenced RR Alert Service Bulletin (SB) No. RB.211-72-AG244, Revision 1, dated January 26, 2010, for performing the ultrasonic inspections of blades, without differentiating between blades removed or blades installed. Also as published, paragraph (e)(5) in the regulatory section inadvertently left out that it applies only to blades that were removed. This document corrects those errors.

No other part of the preamble or regulatory information has been changed; therefore, only the changed portion of the final rule is being published in the Federal Register.

The effective date of this AD remains June 7, 2011.

Correction of Regulatory Text

§ 39.13 [Corrected]

In the Federal Register of May 3, 2011, on page 24801, in the first column, paragraph (e)(3) of AD 2011-08-07 is corrected to read as follows:

(3) For blades that are:

(i) Removed from the engine, use paragraphs 3.A.(1) through 3.A.(2) of Accomplishment Instructions of RR ASB No. RB.211-72-AG244, Revision 1, dated January 26, 2010, and paragraphs 1 through 3.B. of Appendix 1 of that ASB, to perform the UIs.

(ii) Not removed from the engine, use paragraphs 3.B.(1) through 3.B.(3) of Accomplishment Instructions of RR ASB No. RB.211-72-AG244, Revision 1, dated January 26, 2010, and paragraphs 1 through 3.C. of Appendix 2 of that ASB, to perform the UIs.

In the Federal Register of May 3, 2011, on page 24801, in the second column, paragraph (e)(5) of AD 2011-08-07 is corrected to read as follows:

(5) For blades that are removed from the engine and pass inspection, re-apply dry film lubricant, and install all blades in their original position.

Issued in Burlington, Massachusetts on September 9, 2011.
Peter A. White,
Manager, Engine & Propeller Directorate, Aircraft Certification Service.

[FR Doc. 2011-24282 Filed 9-22-11; 8:45 am]

BILLING CODE 4910-13-P